DEPARTMENT OF JUSTICE

Office of Justice Programs

Office for Victims of Crime

[OJP (OVC) Docket No. 1659]

Draft Amendment to the Anti-Terrorism and Emergency Assistance Program Guidelines

AGENCY: Office for Victims of Crime, Office of Justice Programs, DOJ.

ACTION: Notice and request for comments.

SUMMARY: The U.S. Department of Justice, Office of Justice Programs, Office for Victims of Crime (OVC) proposes to make a minor clarifying amendment to its Anti-Terrorism Emergency Assistance Program (AEAP) Guidelines. Anyone interested in commenting on the proposed change may do so as set forth below.

Written Comments: Interested parties may submit comments to Eugenia Pedley, Program Manager, Office for Victims of Crime, by email to Eugenia.Pedley@usdoj.gov, or by mail to 810 7th St. NW., Washington, DC 20531.

DATES: Comments will be accepted through 11:59 p.m. Eastern Time on August 18, 2014.

FOR FURTHER INFORMATION CONTACT: Bob Cantrall, Deputy Director, Office for Victims of Crime, at 202-307-5983.

SUPPLEMENTARY INFORMATION: The U.S. Department of Justice, Office of Justice Programs, Office for Victims of Crime (OVC) proposes to amend its Anti-Terrorism Emergency Assistance Program (AEAP) Guidelines (available at 67 FR 4822, and at http://www.gpo.gov/fdsys/pkg/FR-2002-01-31/pdf/02-2299.pdf). The amendment will clarify that state administering agencies for state crime victim compensation programs may apply for and administer (if awarded discretionary funding by OVC, and if allowable under state law and regulation) supplemental crime victim compensation grants that cover reimbursement of expenses not traditionally covered (in amount and/or type) by the applicant state's crime victim compensation program.

OVC typically awards supplemental compensation under AEAP to a state crime victim compensation program to cover extra expenses incurred because of the unanticipated increase in the number of victims claiming compensation after a mass violence incident. Due to the nature of mass violence incidents, however, victims (in addition to being more numerous) may also have compensation needs that are more extensive or different than what the state program covers in the ordinary course. For example, in the aftermath of a bombing where many victims lose limbs, there may be an increased need for rehabilitative services that extend beyond what a state compensation program typically provides. In such cases, the existing AEAP Guidelines clearly permit OVC to award supplemental funding to other organizations to provide compensation beyond the amounts/limits that a state would provide. The existing Guidelines, however, contain a potential ambiguity with regard to whether OVC could award such funding to a state compensation program, which typically would be the organization that could most efficiently administer such funding (assuming that the state program agreed to administer it). The proposed amendment will clarify that OVC may award such supplemental funding to a state compensation program, or other public agency, in addition to other organizations. The proposed change is not intended to, and will not, affect any state authority governing state compensation programs; it merely clarifies that OVC may award supplemental AEAP funding for purposes of victim compensation to state administering agencies that choose to apply for and accept such funding, and have the state authority to administer such funding. The proposed amendment would clarify a potential ambiguity in the amended sentences, and thereby reduce delay in awarding critical funding to a jurisdiction affected by mass violence or terrorism.

OVC proposes to amend the text of section V.D. of the AEAP Guidelines in the sentence beginning “OVC may provide”, and the following sentence, to add the following (in italics):

OVC may provide funding to the state program, public agencies, or other organizations to cover expenses not traditionally covered (whether in amount or type) by state crime victim compensation programs. OVC will coordinate such awards with state crime victim compensation programs, in the event that such an award is made to another organization.

Anyone interested in commenting on the proposed change may do so as set forth above.

Joye E. Frost,
Director, Office for Victims of Crime.

[FR Doc. 2014-16892 Filed 7-17-14; 8:45 am]

BILLING CODE 4410-18-P